DEPARTMENT OF AGRICULTURE

Grain Inspection, Packers and Stockyards Administration

United States Standards for Feed Peas

AGENCY: Grain Inspection, Packers and Stockyards Administration, USDA.

ACTION: Final notice.

SUMMARY: We are establishing U.S. standards for Feed Peas under the authority of the U.S. Agricultural Marketing Act of 1946, as amended (AMA). Current U.S. standards for Whole Dry Peas and Split Peas reflect the needs of the edible dry pea market. The quality and standards established for the edible dry pea market greatly differ from the feed pea market. Consequently, the current standards for edible dry peas do not reflect the current needs of the feed pea market. This action provides uniform standards and facilitates the marketing of feed peas.

DATES: Effective Date: July 7, 2006.

FOR FURTHER INFORMATION CONTACT: Marianne Plaus at GIPSA, USDA, 1400 Independence Avenue, SW., Washington, DC 20250-3630; Telephone (202) 690-3460; Fax Number (202) 720-1015; or e-mail to: Marianne.Plaus@usda.gov.

SUPPLEMENTARY INFORMATION:

Background

The AMA directs and authorizes the Secretary of Agriculture to develop and improve standards for agricultural products (7 U.S.C. 1622). These are standards of quality, condition, quantity, grade, and packaging. The intent of such standards is to encourage uniformity and consistency in commercial practices.

The United States Dry Pea and Lentil Council and other dry pea industry representatives requested that GIPSA establish standards for dry peas used as feed for animals (feed peas). The pea industry indicated the need to establish separate standards for marketing peas as a feed product due to an increasing demand for peas used in animal feed. The quality and standards established for the edible dry pea market differ from the feed pea market.

GIPSA worked with the United States Dry Pea and Lentil Council and others in the pea industry to develop the standards for feed peas.

The standards include definitions, the basic principles governing application of standards, such as the type of sample used for a particular quality analysis, reporting requirements for analytical results, the actual quality grade specifications, and the format for the grade for certification purposes. The standards include specifications for both U.S. Grade No. 1 Feed Peas and for U.S. Sample Grade Feed Peas. Feed peas that do not meet the requirements for U.S. Grade No. 1 Feed Peas are to be classified as U.S. Sample Grade Feed Peas.

In the May 12, 2006, Federal Register (71 FR 27672-27674) we invited comments on the U.S. Standards for Feed Peas. We received no comments during the 30-day comment period. Therefore, we are establishing U.S. Standards for Feed Peas as proposed.

The U.S. Standards for Peas, including the new Standards for Feed Peas, do not appear in the Code of Federal Regulations; the U.S. Department of Agriculture maintains the standards. The process for developing these standards are specified in the regulations in 7 CFR 868.102, Procedures for establishing and revising grade standards.

You may view or print the U.S. Standards for Feed Peas from the GIPSA Web site at http://www.gipsa.usda.gov or by contacting us by phone, fax, or e-mail using the information provided above under FOR FURTHER INFORMATION CONTACT. We expect requests for service this season beginning in mid-July. Accordingly, the standards are effective one day after publication of this final notice in the Federal Register.

Authority: 7 U.S.C. 1621-1627; 7 CFR 868.103.

James E. Link,
Administrator, Grain Inspection, Packers and Stockyards Administration.

[FR Doc. E6-10550 Filed 7-5-06; 8:45 am]

BILLING CODE 3410-EN-P